DEPARTMENT OF TRANSPORTATION

Federal Aviation Administration

14 CFR Part 39

[Docket No. FAA-2009-1158; Directorate Identifier 2009-CE-063-AD]

RIN 2120-AA64

Airworthiness Directives; PILATUS AIRCRAFT LTD. Model PC-12/47E Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Field reports have indicated that the possibility exists that both Primary Flight Displays (PFDs) could indicate a roll attitude offset of up to 10 degrees in the same direction if an accelerated turn onto the active runway is performed immediately followed by take-off. In addition, annunciated heading splits have been reported. This condition has been reported to correct itself after several minutes.

Additionally, if the aeroplane is operating in geographical latitudes with low horizontal magnetic field strength, incorrect heading may be displayed if the ADAHRS switches from GPS track to magnetometer heading while the aeroplane is on the ground.

This situation, if not corrected, could result in an undesired bank angle, heading splits and/or incorrect heading, which would constitute an unsafe condition.

The proposed AD would require actions that are intended to address the unsafe condition described in the MCAI.

DATES: We must receive comments on this proposed AD by January 25, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090.

SUPPLEMENTARY INFORMATION:

Comments Invited

We invite you to send any written relevant data, views, or arguments about this proposed AD. Send your comments to an address listed under the ADDRESSES section. Include “Docket No. FAA-2009-1158; Directorate Identifier 2009-CE-063-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On April 8, 2009, we issued AD 2009-08-10, Amendment 39-15883 (74 FR 17384, April 15, 2009). That AD required actions intended to address an unsafe condition on the products listed above.

Since we issued AD 2009-08-10, an updated air data, attitude, and heading reference system version with improved software was developed.

The European Aviation Safety Agency (EASA), which is the Technical Agent for the Member States of the European Community, has issued AD No.: 2009-0249, dated November 20, 2009 (referred to after this as “the MCAI”), to correct an unsafe condition for the specified products. The MCAI states:

Field reports have indicated that the possibility exists that both Primary Flight Displays (PFDs) could indicate a roll attitude offset of up to 10 degrees in the same direction if an accelerated turn onto the active runway is performed immediately followed by take-off. In addition, annunciated heading splits have been reported. This condition has been reported to correct itself after several minutes.

Additionally, if the aeroplane is operating in geographical latitudes with low horizontal magnetic field strength, incorrect heading may be displayed if the ADAHRS switches from GPS track to magnetometer heading while the aeroplane is on the ground.

This situation, if not corrected, could result in an undesired bank angle, heading splits and/or incorrect heading, which would constitute an unsafe condition.

As a short-term interim measure, AD 2009-0028-E has been released in February 2009 to limit at 30° the bank angle during climb. Afterwards, as a result of the ongoing investigation, the problem has been temporarily addressed with some limitations in the take-off procedure. These limitations have been mandated by AD 2009-0080-E which superseded AD 2009-0028-E.

In order to terminate the operational limitations, an updated ADAHRS version with improved software was developed.

For the reasons described above this AD supersedes AD 2009-0080-E and mandates as a terminating action either an update of the ADAHRS software or the replacement of the ADAHRS unit. From MSN 1181 and subsequent an improved ADAHRS unit was implemented during production.

You may obtain further information by examining the MCAI in the AD docket.

Relevant Service Information

PILATUS AIRCRAFT LTD. has issued PILATUS PC-12 Service Bulletin No: 34-022, dated October 5, 2009. Honeywell International Inc. has issued Service Bulletin KSG 7200-34-09, Revision 0, dated September 24, 2009. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

We estimate that this proposed AD will affect 50 products of U.S. registry. We also estimate that it would take about 6 work-hours per product to comply with the basic requirements of this proposed AD. The average labor rate is $80 per work-hour. Required parts would cost about $0 per product. Where the service information lists required parts costs that are covered under warranty, we have assumed that there will be no charge for these costs. As we do not control warranty coverage for affected parties, some parties may incur costs higher than estimated here.

Based on these figures, we estimate the cost of the proposed AD on U.S. operators to be $24,000, or $480 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15883 (74 FR 17384, April 15, 2009), and adding the following new AD:

PILATUS AIRCRAFT LTD.: Docket No. FAA-2009-1158; Directorate Identifier 2009-CE-063-AD.

Comments Due Date

(a) We must receive comments by January 25, 2010.

Affected ADs

(b) This AD supersedes AD 2009-08-10, Amendment 39-15883.

Applicability

(c) This AD applies to Models PC-12/47E airplanes, all manufacturer serial numbers (MSN), certificated in any category.

Subject

(d) Air Transport Association of America (ATA) Code 34: Navigation.

Reason

(e) The mandatory continuing airworthiness information (MCAI) states:

Field reports have indicated that the possibility exists that both Primary Flight Displays (PFDs) could indicate a roll attitude offset of up to 10 degrees in the same direction if an accelerated turn onto the active runway is performed immediately followed by take-off. In addition, annunciated heading splits have been reported. This condition has been reported to correct itself after several minutes.

Additionally, if the aeroplane is operating in geographical latitudes with low horizontal magnetic field strength, incorrect heading may be displayed if the ADAHRS switches from GPS track to magnetometer heading while the aeroplane is on the ground.

This situation, if not corrected, could result in an undesired bank angle, heading splits and/or incorrect heading, which would constitute an unsafe condition.

As a short-term interim measure, AD 2009-0028-E has been released in February 2009 to limit at 30° the bank angle during climb. Afterwards, as a result of the ongoing investigation, the problem has been temporarily addressed with some limitations in the take-off procedure. These limitations have been mandated by AD 2009-0080-E which superseded AD 2009-0028-E.

In order to terminate the operational limitations, an updated ADAHRS version with improved software was developed.

For the reasons described above this AD supersedes AD 2009-0080-E and mandates as a terminating action either an update of the ADAHRS software or the replacement of the ADAHRS unit.

From MSN 1181 and subsequent an improved ADAHRS unit was implemented during production.

Actions and Compliance

(f) Unless already done, do the following actions:

(1) For MSN 545 and MSN 1001 through MSN 1180, before further flight after April 20, 2009 (the effective date of AD 2009-08-10), incorporate PILATUS AIRCRAFT LTD. Temporary Revision No. 11 to PC-12/47E Pilot's Operating Handbook (POH), Report No. 02277, dated March 18, 2009, into the Pilatus PC-12/47E POH. The owner/operator holding at least a private pilot certificate as authorized by section 43.7 of the Federal Aviation Regulations 14 CFR 43.7 may do this action. Make an entry in the aircraft records showing compliance with this portion of the AD following 14 CFR 43.9.

(2) For MSN 545 and MSN 1001 through MSN 1180, within 180 days after the effective date of this AD:

(i) Update the air data, attitude, and heading reference system (ADAHRS) software following the accomplishment instructions of Honeywell International Inc. Service Bulletin KSG 7200-34-09, Revision 0, dated September 24, 2009; or

(ii) Replace ADAHRS unit KSG 7200 Honeywell Part Number (P/N) 065-00188-5102, Software Version MOD 02/02 (Pilatus P/N 985.99.12.192) with a new ADAHRS unit with Honeywell P/N 065-00188-5103 (Pilatus P/N 985.99.12.205) following the accomplishment instructions of PILATUS AIRCRAFT LTD. PILATUS PC-12 Service Bulletin No: 34-022, dated October 5, 2009.

(3) For MSN 545 and 1001 through 1180, before further flight after the actions required by paragraph (f)(2) of this AD, remove PILATUS AIRCRAFT LTD. Temporary Revision No. 11 to PC-12/47E Pilot's Operating Handbook, Report No. 02277, dated March 18, 2009.

(4) Do not install an ADAHRS unit with Honeywell P/N 065-00188-5102 (Pilatus P/N 985.99.12.192) on any affected Model PC-12/47E airplane, as follows:

(i) For MSN 545 and 1001 through 1180 airplanes, as of 180 days after the effective date of this AD; and

(ii) For all other MSNs, as of the effective date of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No. 2009-0249, dated November 20, 2009, PILATUS AIRCRAFT LTD. Temporary Revision No. 11 to PC-12/47E Pilot's Operating Handbook, Report No. 02277, dated March 18, 2009; Honeywell International Inc. Service Bulletin KSG 7200-34-09, Revision 0, dated September 24, 2009; and PILATUS AIRCRAFT LTD. PILATUS PC-12 Service Bulletin No: 34-022, dated October 5, 2009, for related information.

Issued in Kansas City, Missouri, on December 4, 2009.
William Timberlake,
Acting Manager, Small Airplane Directorate, Aircraft Certification Service.

[FR Doc. E9-29457 Filed 12-9-09; 8:45 am]

BILLING CODE 4910-13-P